DEPARTMENT OF DEFENSE

Office of the Secretary

Defense Science Board; Meeting

AGENCY: Department of Defense.

ACTION: Notice of advisory committee meetings.

SUMMARY: The Defense Science Board (DSB) Task Force on Defense Against Terrorists' Use of Biological Weapons will meet in closed session on February 18-19, 2002; March 11-12, 2002; April 1-2, 2002; April 29-30, 2002; June 3-4, 2002; June 24-25, 2002; and July 23-23, 2002, at Strategic Analysis Inc., 3601 Wilson Boulevard, Arlington, VA. This Task Force will assess the scope of activities conducted by the DoD to ensure its future preparedness to deter, defend against, respond to, and attribute attack of the US homeland by terrorists using biological weapons.

The mission of the Defense Science Board is to advise the Secretary of Defense and the Under Secretary of Defense for Acquisition, Technology & Logistics on scientific and technical matters as they affect the perceived needs of the Department of Defense. At these meetings, the Task Force will conduct an assessment of the most probable biological threats and the implications of new technologies on the threat spectrum, deterrence and consequence management; identify new technologies to provide satisfactory surveillance and verification of known and emerging diseases to ensure implementation of proactive defense measures and event mitigation; identify reliable and effective vaccines, anti-viral drugs and antibiotics, including the availability of sufficient vaccine and drug manufacturing capacity; determine logistical adequacy of the current supply chain for drug and vaccine production; identify capabilities to achieve reliable attribution to attackers once a BW attack has occurred; and identify defense capabilities and postures that have the largest potential for comprehensive protection of military and civilian targets.

In accordance with section 10(d) of the Federal Advisory Committee Act, Pub. L. 92-463, as amended (5 U.S.C. App. II), it has been determined that these Defense Science Board Task Force meetings concern matters listed in 5 U.S.C. 552b(c)(1) and that, accordingly, these matters will be closed to the public.

Dated: December 10, 2001.
L.M. Bynum,
Alternate OSD Federal Register Liaison Officer, Department of Defense.

[FR Doc. 01-30847 Filed 12-13-01; 8:45 am]

BILLING CODE 5001-08-M